DEPARTMENT OF THE INTERIOR

Bureau of Indian Affairs

[256A2100DD/AAKC001030/A0A51010.999900]

Proclaiming Certain Lands as Reservation for Lower Elwha Tribal Community

AGENCY: Bureau of Indian Affairs, Interior.

ACTION: Notice of reservation proclamation.

SUMMARY: This notice informs the public that the Assistant Secretary—Indian Affairs proclaimed approximately 61.36 acres, more or less, an addition to the reservation of the Lower Elwha Tribal Community.

DATES: This proclamation was made on November 6, 2024.

FOR FURTHER INFORMATION CONTACT: Ms. Carla Clark, Bureau of Indian Affairs, Division of Real Estate Services, 1001 Indian School Road NW, Box #44, Albuquerque, New Mexico 87104, carla.clark@bia.gov, (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The land was proclaimed to be the Lower Elwha Tribal Community Reservation for Lower Elwha Clallam Tribe in Clallam County Washington.

Lower Elwha Tribal Community Reservation, Willamette Meridian, Clallam County, Washington, Legal Descriptions Containing 61.36 Acres, More or Less

125-T4877 Elwha River Property

The East half of the Southeast quarter of the Northwest quarter of Section 34, Township 31 North, Range 7 West, Willamette Meridian, Clallam County, Washington, Situate in Clallam County, State of Washington. Containing 21.4 acres, more or less.

125-T4878 Little River Property

Government Lot 2 (also known as the Northwest quarter of the Northeast quarter) in Section 4, Township 29 North, Range 6 West, Willamette Meridian, Clallam County, Washington, Situate in Clallam County, State of Washington. Containing 39.96 acres, more or less.

The above described lands contain a total of 61.36 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-26202 Filed 11-12-24; 8:45 am]

BILLING CODE 4337-15-P